DEPARTMENT OF HEALTH AND HUMAN SERVICES

Centers for Disease Control and Prevention

National Center for Environmental Health/Agency for Toxic Substances and Disease Registry; Meetings

The Health Department Subcommittee of the Board of Scientific Counselors (BSC), Centers for Disease Control and Prevention (CDC), National Center for Environmental Health/Agency for Toxic Substances and Disease Registry (NCEH/ATSDR): Teleconference Meeting.

In accordance with section 10(a)(2) of the Federal Advisory Committee Act (Pub. L. 92-463), CDC, NCEH/ATSDR announces the following subcommittee teleconference meeting:

Name: Health Department Subcommittee (HDS).

Times and Dates: 1 p.m.-2:30 p.m., January 12, 2005

Place: Century Center, 1825 Century Boulevard, Atlanta, Georgia 30345.

Status: Open to the public, teleconference access limited only by availability of telephone ports.

Purpose: Under the charge of the Board of Scientific Counselors, NCEH/ATSDR the HDS will provide the BSC, NCEH/ATSDR with advice and recommendations on local and state health department issues and concerns that pertain to the mandates and mission of NCEH/ATSDR.

Matters To Be Discussed: The meeting agenda will include a review of the Health Department Charge; a review of the Top Five Priority Issues of the HDS and how to proceed on the next top priority issues; a discussion on the formulation of recommendations on the Environmental Health Workforce; a discussion on issues the BSC would like addressed; and a discussion to establish the regularity and timing of the HDS face-to-face and teleconference meetings.

Items are subject to change as priorities dictate.

SUPPLEMENTARY INFORMATION: This teleconference meeting is scheduled to begin at 1 p.m. e.s.t. To participate during the Public Comment period (2-2:10 p.m.), dial (877) 315-6535, conference code 383520.

FOR FURTHER INFORMATION CONTACT: Individuals interested in attending the meeting, contact Sandra Malcom, Committee Management Specialist, NCEH/ATSDR, 1600 Clifton Road, M/S E-28, Atlanta, Georgia 30333; telephone 404/498-0003, fax 404/498-0059; e-mail: smalcom@cdc.gov.

The Director, Management Analysis and Services Office, has been delegated the authority to sign Federal Register notices pertaining to announcements of meetings and other committee management activities for both CDC and the National Center for Environmental Health/Agency for Toxic Substances and Disease Registry.

Dated: December 27, 2005.
Alvin Hall,
Director, Management Analysis and Services Office Centers for Disease Control and Prevention.

[FR Doc. E5-7868 Filed 12-23-05; 8:45 am]

BILLING CODE 4163-18-P